DEPARTMENT OF COMMERCE

National Oceanic and Atmospheric Administration

15 CFR Part 922

[Docket No. 240829-0230]

RIN 0648-BL31

Chumash Heritage National Marine Sanctuary

AGENCY: Office of National Marine Sanctuaries, National Ocean Service, National Oceanic and Atmospheric Administration, Department of Commerce.

ACTION: Notification of effective date of final rule.

SUMMARY: The National Oceanic and Atmospheric Administration (NOAA) is providing notice that the final rule published on October 16, 2024, to designate Chumash Heritage National Marine Sanctuary (CHNMS), is effective on November 30, 2024.

DATES: The final rule to designate CHNMS, which was published in the Federal Register (89 FR 83554) on October 16, 2024, is effective November 30, 2024.

FOR FURTHER INFORMATION CONTACT: Laura Ingulsrud, West Coast Regional Policy Analyst, 99 Pacific Street, Suite 100F, Monterey, CA 93940, 831-647-6450, laura.ingulsrud@noaa.gov.

SUPPLEMENTARY INFORMATION: Pursuant to Section 304(b) of the National Marine Sanctuaries Act (NMSA) (16 U.S.C. 1434(b)), NOAA published in the Federal Register notification of the designation of CHNMS and final regulations to implement the designation on October 16, 2024 (89 FR 83554). As required by the NMSA, the designation and regulations would become effective following the close of a review period of 45 days of continuous session of Congress beginning on the date of publication (16 U.S.C. 1434(b)(1)). The regulations are effective as of November 30, 2024.

List of Subjects in 15 CFR Part 922

Administrative practice and procedure, Coastal zone, Cultural resources, Historic preservation, Marine protected areas, Marine resources, National marine sanctuaries, Recreation and recreation areas, Reporting and recordkeeping requirements, Shipwrecks.

John Armor,
Director, Office of National Marine Sanctuaries, National Ocean Service, National Oceanic and Atmospheric Administration.

[FR Doc. 2024-27387 Filed 11-29-24; 8:45 am]

BILLING CODE 3510-NK-P